DEPARTMENT OF LABOR

Employment and Training Administration

Proposed Collection; Unemployment Compensation for Federal Employees (UCFE) Program Forms Comment Request

ACTION: Notice; request for comments.

SUMMARY: The Department of Labor (DOL), as part of its continuing effort to reduce paperwork and respondent burden, conducts a pre-clearance consultation program to provide the general public and federal agencies an opportunity to comment on proposed and/or continuing collections of information in accordance with the Paperwork Reduction Act of 1995 (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the proposed revision and extension of the Unemployment Compensation for Federal Employees (UCFE) Handbook.

A copy of the proposed information collection request can be obtained by contacting the office listed below in the addressee section of this notice.

DATES: Written comments must be submitted to the office listed in the ADDRESSES section below on or before February 18, 2003.

ADDRESSES: Merri Baldwin, Office of Workforce Security, U.S. Department of Labor, Room S-4231, Frances Perkins Building, 200 Constitution Ave., NW., Washington, DC 20210, telephone (202) 693-3220 (this is not a toll-free number), fax number (202) 693-3229. E-mail address: mbaldwin@doleta.gov.

SUPPLEMENTARY INFORMATION: I. Background: The UCFE law (5 U.S.C. 8501-8509) requires State workforce agencies (SWAs) to pay UCFE in the same amount and under the same terms and conditions as would be payable under the unemployment insurance law of the State if the claimant's Federal service and Federal wages had been included as employment and wages under that State's law. Each State agency must obtain from the Federal agency wage and separation information for each claimant filing a UCFE claim to enable it to determine his/her eligibility for benefits. As a result of reorganization, all the form numbers have been changed from ES to ETA. The State agencies obtain and record required UCFE information on the following forms (either electronic or paper) developed by the Department of Labor: ETA-931, ETA-931A, ETA-933, ETA-934, and ETA-935. The use of each of these forms is essential to the UCFE claims process.

Information pertaining to the UCFE claimant may be obtained from the individual's former employing Federal agency only by using form ETA-931, Request for Wage and Separation Information. Form ETA-931A is used to request separation information or the reason for non-pay status when a claimant has a previously established benefit year and is reopening his claim after an intervening period of employment in a Federal agency. Form ETA-933 is used to obtain information from the Office of Workers' Compensation. Form ETA-934 is used to obtain information when missing or clarified data is needed from a Federal agency. This form is used in about 10% of claims. If the claimant's former employer does not provide the information, the next most feasible and effective way to obtain this information is by use of form ETA-935, the claimantss Affidavit of Federal Civilian Service, Wages and Reason for Separation, prescribed by the Department of Labor for State agency use. Without this information, States could not adequately determine the UCFE eligibility of former Federal employees and would not be able to properly administer the program. Form ETA-935 is used, generally, to overcome delays in the normal claims process caused by delayed returns of completed form ETA-931 by the employing Federal agency. The ETA-935 is required to be completed in 100% of all claims. Form ETA-936, Request for Verification of Wage and Separation Information Furnished on Form ETA-931, is sent to payroll offices to verify a sample of the forms ETA-931 submitted by that office and to provide the Federal agency with an opportunity to request technical assistance concerning the UCFE program. This form is used semi-annually. Form ETA-939, Federal Agency Visits Report, is completed by a SWA representative, on each visit to a Federal agency installation in connection with the UCFE program. The number of times this form is used varies with each State. Form ETA 8-32, Report of UCFE Activities, is used by each SWA every 6 months to verify activities and federal agency visits.

II. Review Focus: The Department of Labor is particularly interested in comments which:

• Evaluate whether the proposed collection of information is necessary for the proper performance of the functions of the agency, including whether the information will have practical utility;

• Evaluate the accuracy of the Department's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions: This is a request for the Office of Management and Budget (OMB) approval under the Paperwork Reduction Act of 1995 (44 U.S.C. 3506(c)(2)(A)) of an extension to an existing collection of information previously approved and assigned OMB control no. 1205-0179. A total of 78,000 UCFE claims was filed in fiscal year (FY) 2001, and an estimated workload of 87,000 UCFE claims is projected for fiscal year (FY) 2002 reflecting a slight workload increase of 9,000, resulting in an increase of 14.15 hours toward ETA's Information Collection Budget.

Type of Review: Extension.

Agency: Employment and Training Administration.

Title: Unemployment Compensation for Federal Employees (UCFE) Handbook.

OMB Number: 1205-0179.

Recordkeeping: DOL does not maintain a system of records for the UCFE program. UCFE records are maintained by the SWAs acting as agents for the federal government in the administration of the UCFE program. The DOL procedures permit the SWAs, upon request, to dispose of UCFE records according to state law provisions, 3 years after final action (including appeals or court action) on the claim, or such records may be transferred in less than the 3-year period if micro photographed in accordance with appropriate micro photography standards.

Affected Public: State governments (State workforce agencies) and Federal government agencies.

Cite/Reference/Form/etc.: Forms ETA-931, ETA-931A, ETA-933, ETA-934, ETA-935, ETA-936, ETA-939, and ETA 8-32.

Cite/reference | Total respondents | Frequency | Total responses | Average time per response (minutes) | Burden hrs.
ETA-931 | 87,000 | 1 | 87,000 | .05 | 72
ETA-931A | 21,750 | 1 | 21,750 | .05 | 18.0
ETA-935 | 87,000 | 1 | 87,000 | .08 | 116.0
ETA-933 | 4,350 | 1 | 4,350 | .05 | 4.0
ETA-934 | 8,700 | 1 | 8,700 | .05 | 7.0
ETA-936 | 13,050 | 1 | 13,050 | .05 | 11.0
ETA-939 | 75 | 1 | 75 | 1.75 | 2.0
ETA-8-32 | 53 | 2 | 106 | .08 | .15
TOTAL |  |  | 213,031 |  | 230.15

Total Burden Cost (Capital/Startup): 0.

Total Burden Cost (Operating/Maintaining): $88,303. The cost of the Louisiana Claims Control Center (LCCC) for FY 2002 was about $883,035 for UCFE/UCX claims processing of which approximately 10 percent ($88,303) was for UCFE claim processing. This amount is allocated to the LCCC by the Federal government as a State grant.

Comments submitted in response to this comment request will be summarized and/or included in the request for the Office of Management and Budget approval of the information collection request; they also will become a matter of public record.

Dated: December 12, 2002.
Cheryl Atkinson,
Administrator, Office of Workforce Security.

[FR Doc. 02-31768 Filed 12-17-02; 8:45 am]

BILLING CODE 4510-30-P